NATIONAL SCIENCE FOUNDATION

Proposal Review Panel for Materials Research; Notice of Meeting

In accordance with the Federal Advisory Committee Act (Pub. L. 92-463, as amended), the National Science Foundation (NSF) announces the following meeting:

Name and Committee Code: Site visit review of a Science and Technology Center on Real-Time Functional Imaging (STROBE)—Division of Materials Research (DMR) #1203

Date and Time: September 6, 2017; 8:00 a.m.-6:00 p.m. September 7, 2017; 8:00 a.m.-4:00 p.m.

Place: University of Colorado, Boulder—Auditorium C120, Sustainability, Energy and Environment Complex (SEEC), CU Boulder East Campus, Boulder, Colorado 80303.

Type of Meeting: Part Open.

Contact Person: Dr. Charles Ying, Program Director, Division of Materials Research, National Science Foundation, 4201 Wilson Boulevard, Arlington, VA 22230, Telephone (703) 292-8428.

Purpose of Meeting: To provide advice and recommendations concerning progress of the Science and Technology Center.

Agenda

Wednesday, September 6, 2017

8:00 a.m.-10:30 a.m. Open—Review of STROBE

10:30 a.m.-6:00 p.m. Closed—Executive Session

Thursday, September 7, 2017

8:00 a.m.-4:00 p.m. Closed—Executive Session

Reason for Late Notice: Due to unforeseen scheduling complications and the necessity to proceed with the review.

Reason for Closing: Topics to be discussed and evaluated during closed portions of the site review will include information of a proprietary or confidential nature, including technical information; and information on personnel. These matters are exempt under 5 U.S.C.552b(c), (4) and (6) of the Government in the Sunshine Act.

Dated: August 21, 2017.
Crystal Robinson,
Committee Management Officer.

[FR Doc. 2017-17927 Filed 8-23-17; 8:45 am]

BILLING CODE 7555-01-P